NUCLEAR REGULATORY COMMISSION

[NRC-2016-0249]

Information Collection: Safeguards on Nuclear Material—Implementation of United States/International Atomic Energy Agency Agreement

AGENCY: Nuclear Regulatory Commission.

ACTION: Notice of submission to the Office of Management and Budget; request for comment.

SUMMARY: The U.S. Nuclear Regulatory Commission (NRC) recently submitted a renewal of an existing collection of information to the Office of Management and Budget (OMB) for review. The information collection is entitled, Information Collection: Safeguards on Nuclear Material—Implementation of United States/International Atomic Energy Agency Agreement.”

DATES: Submit comments by August 24, 2017.

ADDRESSES: Submit comments directly to the OMB reviewer at: Aaron Szabo, Desk Officer, Office of Information and Regulatory Affairs (3150-0055), NEOB-10202, Office of Management and Budget, Washington, DC 20503; telephone: 202-395-3621, email: oira_submission@omb.eop.gov.

FOR FURTHER INFORMATION CONTACT: David Cullison, NRC Clearance Officer, U.S. Nuclear Regulatory Commission, Washington, DC 20555-0001; telephone: 301-415-2084; email: INFOCOLLECTS.Resource@nrc.gov.

SUPPLEMENTARY INFORMATION:

I. Obtaining Information and Submitting Comments

A. Obtaining Information.

Please refer to Docket ID NRC-2016-0249 when contacting the NRC about the availability of information for this action. You may obtain publicly-available information related to this action by any of the following methods:

• Federal rulemaking Web site: Go to http://www.regulations.gov and search for Docket ID NRC-2016-0249.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The supporting statement is available in ADAMS under Accession No. ML17173A062.

• NRC's PDR: You may examine and purchase copies of public documents at the NRC's PDR, Room O1-F21, One White Flint North, 11555 Rockville Pike, Rockville, Maryland 20852.

• NRC's Clearance Officer: A copy of the collection of information and related instructions may be obtained without charge by contacting the NRC's Clearance Officer, David Cullison, Office of the Chief Information Officer, U.S. Nuclear Regulatory Commission, Washington, DC 20555-0001; telephone: 301-415-2084; email: INFOCOLLECTS.Resource@NRC.GOV.

B. Submitting Comments.

The NRC cautions you not to include identifying or contact information in comment submissions that you do not want to be publicly disclosed in your comment submission. All comment submissions are posted at http://www.regulations.gov and entered into ADAMS. Comment submissions are not routinely edited to remove identifying or contact information.

If you are requesting or aggregating comments from other persons for submission to the OMB, then you should inform those persons not to include identifying or contact information that they do not want to be publicly disclosed in their comment submission. Your request should state that comment submissions are not routinely edited to remove such information before making the comment submissions available to the public or entering the comment into ADAMS.

II. Background

Under the provisions of the Paperwork Reduction Act of 1995 (44 U.S.C. Chapter 35), the NRC recently submitted a request for renewal of an existing collection of information to OMB for review entitled, “Information Collection: Safeguards on Nuclear Material—Implementation of United States/International Atomic Energy Agency Agreement.” The NRC hereby informs potential respondents that an agency may not conduct or sponsor, and that a person is not required to respond to, a collection of information unless it displays a currently valid OMB control number.

The NRC published a Federal Register notice with a 60-day comment period on this information collection on April 6, 2017 (82 FR 16862).

1. The title of the information collection: 10 CFR part 75, “Information Collection: Safeguards on Nuclear Material—Implementation of United States/International Atomic Energy Agency Agreement”.

2. OMB approval number: 3150-0055.

3. Type of submission: Extension.

4. The form number if applicable: Not applicable.

5. How often the collection is required or requested: Selected licensees are required to provide reports of nuclear material inventory and flow for selected facilities under the US/IAEA Safeguards Agreement, permit inspections by International Atomic Energy Agency Agreement (IAEA) inspectors, complementary access of IAEA inspectors under the Additional Protocol, give immediate notice to the NRC in specified situations involving the possibility of loss of nuclear material, and give notice for imports and exports of specified amounts of nuclear material. Reporting is done when specified events occur. Recordkeeping for nuclear material accounting and control information is done in accordance with specific instructions.

6. Who will be required or asked to respond: Licensees of facilities on the U.S. eligible list who have been selected by the IAEA for reporting or recordkeeping activities.

7. The estimated number of annual responses: 7 (2 reporting responses + 5 recordkeepers).

8. The estimated number of annual respondents: 5.

9. An estimate of the total number of hours needed annually to comply with the information collection requirement or request: 3,960.

10. Abstract: Part 75 of Title 10 of the Code of Federal Regulations, requires selected licensees to provide reports of nuclear material inventory and flow for selected facilities under the US/IAEA Safeguards Agreement, permit inspections by IAEA inspectors, complementary access of IAEA inspectors under the Additional Protocol, give immediate notice to the NRC in specified situations involving the possibility of loss of nuclear material, and give notice for imports and exports of specified amounts of nuclear material. Licensees will also follow written material accounting and control procedures, although actual reporting of transfer and material balance records to the IAEA will be done through the U.S. State system of accounting for and control of nuclear material (Nuclear Materials Management and Safeguards System, collected under OMB clearance numbers 3150-0003, 3150-0004, 3150-0057, and 3150-0058. The NRC needs this information to implement its responsibilities under the US/IAEA agreement. The NRC is not submitting the information collections associated with the modified Small Quantities Protocol to OMB at this time. A separate 30-day notice will be published prior to submitting the information collections associated with the final rule.

Dated at Rockville, Maryland, this 19th day of July 2017.
For the U.S. Nuclear Regulatory Commission.
David Cullison,
Clearance Officer, U.S. Nuclear Regulatory Commission, Office of the Chief Information Officer.

[FR Doc. 2017-15540 Filed 7-24-17; 8:45 am]

BILLING CODE 7590-01-P